DEPARTMENT OF HOUSING AND URBAN DEVELOPMENT

[Docket No. FR-5481-N-04]

Notice of Proposed Information Collection: Comment Request; Technical Assistance for Community Planning and Development Programs

AGENCY: Office of the Assistant Secretary for Community Planning And Development, HUD.

ACTION: Notice.

Summary: The proposed information collection requirement described below will be submitted to the Office of Management and Budget (OMB) for review, as required by the Paperwork Reduction Act. The Department is soliciting public comments on the subject proposal.

Dates: Comments Due Date: June 13, 2011.

ADDRESSES: Interested persons are invited to submit comments regarding this proposal. Comments should refer to the proposal by name and/or OMB Control Number and should be sent to: Rudene Thomas, Office of Community Planning and Development, Department of Housing Urban and Development, 451 7th Street, SW., Room 7233, Washington, DC 20410.

FOR FURTHER INFORMATION CONTACT: Holly A. Kelly, (202)708-3176 (this is not a toll-free number).

SUPPLEMENTARY INFORMATION: The Department is submitting the proposed information collection to OMB for review, as required by the Paperwork Reduction Act of 1995 (44 U.S.C. Chapter 35, as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Technical Assistance for Community Planning and Development Program.

OMB Control Number, if applicable: 2506-0166.

Description of the need for the information and proposed use: Application information is needed to determine competition winners, i.e., those technical assistance (TA) providers best able to offer local jurisdictions an ability to shape their CPD resources and other available resources into effective, coordinated, neighborhood and community development strategies to revitalize and to physically, socially and economically strengthen their communities. The application for the competition requires the completion of Standard Forms 424, 424-CB, 424-CBW, LLL (if engaged in lobbying), 2880, 40040 and 40044, as well as supplementary information such as identification of field offices to be served, a narrative statement addressing the factors for award, and a budget summary. After awards are made, providers are required to submit a work plan which includes a planned schedule for accomplishing each of the planned activities/tasks to be accomplished with TA funds, the amount of funds budgeted for each activity/task and the staff and other resources allocated to each activity/task. Narrative quarterly reports are required so that the provider's performance can be evaluated and measured against the workplan. Quarterly reports also require the submission of the SF 425, a financial status report. A narrative final report and final SF 425 are also required.

Agency form numbers, if applicable: 424, 424-CB, 424-CBW, LLL, 2880, 40040 and 40044.

Members of affected public: For-profit and non-profit organizations or State and local governments equipped to provide technical assistance to recipients of CPD programs.

Estimation of the total numbers of hours needed to prepare the information collection including number of respondents, frequency of response, and hours of response.

Status of the proposed information collection: The FY 2009 Notice of Funding Availability (NOFA) for technical assistance providers for CPD programs elicited 161 responses. The Department estimates that each applicant required an average of 60 hours to prepare an application. Each year approximately 50 applicants are chosen for awards. Winners of the competition are required to develop a work plan, requiring approximately 20 hours, submit quarterly reports needing approximately six hours each (including a final report) and perform record keeping to include submission of vouchers for reimbursement, estimated at 12 hours annually. Because these actions are undertaken for each field office in which the applicant wins funds, the numbers reflect more than the base number of winners. Approximately 177 workplans were developed as a result of the FY 2009 competition and each requires quarterly reports and recordkeeping. The specific numbers are as follows:

| Number of respondents | Number of responses per respondent frequency | Total annual | Hours per response | Total hours
Applications | 161 | 1 | 161 | 60 | 9,660
Workplan Development | 177 | 1 | 177 | 20 | 3,540
Quarterly Reports (include final report) | 177 | 4 | 708 | 6 | 4248
Recordkeeping | 177 | 12 | 2,124 | 2 | 4,248
Total |  |  | 3,170 |  | 21,696

Status of the proposed information collection: Reinstatement

Authority: The Paperwork Reduction Act of 1995, 44 U.S.C. Chapter 35, as amended.

Dated: April 1, 2011.
Clifford D. Taffet,
General Deputy Assistant Secretary for Community Planning and Development.

[FR Doc. 2011-8596 Filed 4-11-11; 8:45 am]

BILLING CODE 4210-67-P